DEPARTMENT OF TRANSPORTATION

National Highway Traffic Safety Administration

[U.S. DOT Docket Number NHTSA-2001-8620]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before March 19, 2001.

ADDRESSES: Comments must refer to the docket notice numbers cited at the beginning of this notice and be submitted to Docket Management, Room PL-401, 400 Seventh Street, S.W., Washington, DC 20590. Please identify the proposed collection of information for which a comment is provided, by referencing its OMB clearance Number. It is requested, but not required, that 2 copies of the comment be provided. The Docket Section is open on weekdays from 10 a.m. to 5 p.m.

FOR FURTHER INFORMATION CONTACT: Complete copies of each request for collection of information may be obtained at no charge from Mr. Ed Kosek, NHTSA 400 Seventh Street, SW, Room 6123,Washington, DC 20590. Mr. Kosek's telephone number is (202) 366-2589. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

Compliance Labeling of Warning Devices in 49 CFR Section 571.125

Type of Request: Reinstatement of Clearance.

OMB Clearance Number: 2127-0506.

Form Number: This collection of information uses no standard forms.

Requested Expiration Date of Approval: Three years from date of approval.

Summary of the Collection of Information: 49 U.S.C. 30111, 30112 and 30117 (Appendix 1) of the National Traffic and Motor Vehicle Safety Act of 1966, authorizes the issuance of Federal Motor Vehicle Safety Standards (FMVSS). The Secretary is authorized to issue, amend, and revoke such rules and regulations as she/he deems necessary.

Using this authority, the agency issued FMVSS No. 125, “Warning Devices” (Appendix 2), which applies to devices, without self contained energy sources, that are designed to be carried mandatorily in buses and trucks that have a gross vehicle weight rating (GVWR) greater than 10,000 pounds and voluntarily in other vehicles. These devices are used to warn approaching traffic of the presence of a stopped vehicle, except for devices designed to be permanently affixed to the vehicle.

Description of the need for the information and proposed use of the information: Each manufacturer of warning triangles must label each device to comply with Standard No. 125. This standard establishes requirements for devices, without self-contained energy sources. Without proper deployment and use, the effectiveness of the devices may be greatly diminished, and may lead to serious injuries due to rear end collisions between moving traffic and disabled vehicles.

The warning device shall be permanently and legibly marked and also provide instructions for its erection and display. Each device shall be labeled with; (a) the name of the manufacturer, (b) the month and year of manufacture, (c) the DOT symbol, or the statement that the warning device complies with all applicable FMVSS. The instructions for each device shall include a recommendation that the driver activate the vehicular hazard warning signal lamps before leaving the vehicle to erect the warning device. Also, the instructions shall include an illustration indicating recommended positioning.

Without these devices and instructions there could be more deaths and injuries caused by stopped or disabled motor vehicles.

Description of the Likely Respondents (Including Estimated Number, and Proposed Frequency of Response to the Collection of Information): There are three manufacturers labeling approximately 2.85 million warning devices (triangles) per year for the last few years. Based on the estimated number of warning triangles produced per year, the frequency of response is estimated to be 2.85 million.

Estimate of the Total Annual Reporting and Recordkeeping Burden Resulting from the Collection of Information: For the 2.85 million warning triangles produced per year, the tooling to label them would be replaced after about 20 years of service being used to make about 200K devices per year. The machining each mold that would be replaced is about 8 hours at a cost of $37.50 per hour, or a cost of $300. Assuming that this past years production level of 2.85 million devices were built each year for the last twenty years (an over-estimate that ignores the long steady growth of the market), the total number of devices manufactured would be 57 million. The tooling needs to be replaced every 4 million uses; the total number of tools used in the last 20 years is 14.25. The machining for the labeling in each tool would be 14.25 times 8 hours divided by 57 million, or 0.000002 hour per device. Thus the current annual cost for the 2.85 million devices manufactured is 5.7 hours × $37.50 = $213.75.

Authority: 440 U.S.C. 3506(c); delegation of authority at 49 CFR 1.50.

Issued on: January 9, 2001.
Stephen R. Kratzke,
Associate Administrator for Safety Performance Standards.

[FR Doc. 01-1216 Filed 1-12-01; 8:45 am]

BILLING CODE 4910-59-P